DEPARTMENT OF JUSTICE

Notice of Lodging of Consent Decree Under the Clean Water Act

Under 28 CFR 50.7, notice is hereby given that on July 6, 2006, a Consent Decree in the matter of United States and the State of Ohio v. City of Fostoria, Ohio, Civil Action No. 3:06-cv-1626, was lodged with the United States District Court for the Northern District of Ohio, Western Division.

In the complaint in this matter, the United States sought injunctive relief and penalties against the City of Fostoria (“Fostoria”) for claims arising under the Clean Water Act, 33 U.S.C. 1251 et seq., in connection with Fostoria's wastewater treatment plant (“WWTP”) and its sewerage collection system. The State of Ohio joined the action. Under the Consent Decree, Fostoria will submit a long-term control plan by no later than January 31, 2008, and must implement the actions required in the approved long-term control plan by no later than December 31, 2025. In addition, Fostoria is required to, inter alia: (1) Properly operate and maintain Combined Sewer Overflow (“CSO”) automatic samplers and flow monitors; (2) develop and implement operation and maintenance manuals for the WWTP and sewer system; (3) inspect and clean its sewer system; (4) properly operate and maintain a primary overflow containment lagoon at the WWTP; (5) evaluate industrial user discharges to minimize their impact during wet weather; (6) engage in a continuing sampling program to verify that the discharges from a CSO outfall during dry weather are not the result of sanitary wastewater; (7) comply with interim effluent limits for total suspended solids and carbonaceous biochemical oxygen demand; and (8) comply with final effluent limits for all remaining pollutants. Fostoria also will pay a civil penalty of $30,000, one-half of which will be paid to the United States and the other half of which will be paid to the State of Ohio.

The Department of Justice will receive for a period of thirty (30) days from the date of this publication comments relating to the Consent Decree. Comments should be addressed to the Assistant Attorney General, Environment and Natural Resources Division, P.O. Box 7611, U.S. Department of Justice, Washington, DC 20044-7611, and should refer to United States and the State of Ohio v. City of Fostoria, Ohio, D.J. Ref. No. 90-5-1-1-08204.

The Consent Decree may be examined at the Office of the United States Attorney, Four Seagate, Suite 308, Toledo Ohio 43604-2624, and at U.S. EPA Region 5, 77 W. Jackson St., Chicago, IL 60604. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $28.25 (25 cents per page reproduction cost) payable to the U.S. Treasury.

William D. Brighton,
Assistant Section Chief, Environmental Enforcement Section, Environment and Natural Resources Division.

[FR Doc. 06-6343 Filed 7-18-06; 8:45 am]

BILLING CODE 4410-15-M